DEPARTMENT OF COMMERCE

Census Bureau

Agency Information Collection Activities; Submission to the Office of Management and Budget (OMB) for Review and Approval; Comment Request; Local Update of Census Addresses (LUCA) Operation; Correction

AGENCY: Census Bureau, Department of Commerce.

ACTION: Notice; correction.

SUMMARY: On February 17, 2026, the Department of Commerce published a 60-day public comment period notice in the Federal Register with FR Document Number 2026-03073, Volume 91, (Page 7244), seeking public comments for an information collection entitled, “Local Update of Census Addresses (LUCA) operation.” This document referenced incorrect information in the LUCA Review section, and Commerce hereby issues a correction notice as required by the Paperwork Reduction Act of 1995.

FOR FURTHER INFORMATION CONTACT: Requests for additional information or specific questions related to collection activities should be directed to Michael S. Snow, Supervisory Program Analyst, Decennial Census Management Division, U.S. Department of Commerce; via email at dcmd.pra@census.gov.

SUPPLEMENTARY INFORMATION:

Correction

The notice erroneously said, “LUCA Review will occur from October 2028 through March 2029.” The correct dates are October 2027 through March 2028.

Request for Comments

Interested persons are invited to submit written comments by email to dcmd.pra@census.gov. Please reference “2030 LUCA 60 Day FRN” in the subject line of your comments. You may also submit comments, identified by Docket Number USBC-2026-0001, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

Sheleen Dumas,
Departmental PRA Compliance Officer, Office of the Under Secretary for Economic Affairs, Commerce Department.

[FR Doc. 2026-03980 Filed 2-26-26; 8:45 am]

BILLING CODE 3510-07-P